DEPARTMENT OF TRANSPORTATION

Federal Aviation Administration

14 CFR Part 39

[Docket No. FAA-2011-0454; Directorate Identifier 2009-SW-54-AD]

RIN 2120-AA64

Airworthiness Directives; Eurocopter France Model SA-365C, SA-365C1, SA-365C2, SA-365N, SA-365N1, AS-365N2, AS 365 N3, and SA-366G1 Helicopters

AGENCY: Federal Aviation Administration (FAA), DOT.

ACTION: Notice of proposed rulemaking (NPRM).

SUMMARY: We propose to adopt a new airworthiness directive (AD) for the specified Eurocopter France (ECF) model helicopters. This proposed AD results from a mandatory continuing airworthiness information (MCAI) AD issued by the European Aviation Safety Agency (EASA), which is the Technical Agent for the Member States of the European Community. The MCAI AD states that the manufacturer has received some reports of deterioration and two reports of failure of Starflex star arm ends. These deteriorations generated high-amplitude vibrations in flight requiring precautionary landings. They state these deteriorations are due to the strong effect of temperature on the strength of the bush-to-Starflex star arm end attachment. Consequently, the MCAI AD requires modification of the frequency adapters and the frequency adapter bushes to improve the ventilation in the area on the star arm end. This proposed AD is intended to require modifying the main rotor frequency adapters to reduce the temperature in the area, to prevent failure of the star arm end, severe vibration, and subsequent loss of control of the helicopter.

DATES: We must receive comments on this proposed AD by June 13, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (800) 232-0323, fax (972) 641-3710 or at http://www.eurocopter.com.

Examining the AD Docket: You may examine the AD docket on the Internet at http://www.regulations.gov, or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: DOT/FAA Southwest Region, Gary Roach, ASW-111, Aviation Safety Engineer, Rotorcraft Directorate, Regulations and Guidance Group, 2601 Meacham Blvd., Fort Worth, Texas 76137, telephone (817) 222-5130, fax (817) 222-5961.

SUPPLEMENTARY INFORMATION:

Comments Invited

We invite you to send any written relevant data, views, or arguments about this proposed AD. Send your comments to an address listed under the ADDRESSES section. Include “Docket No. FAA-2011-0454; Directorate Identifier 2009-SW-54-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The EASA, which is the Technical Agent for the Member States of the European Community, has issued EASA Emergency AD (EAD) No. 2006-0362-E, dated November 30, 2006, to correct an unsafe condition for the specified Eurocopter model helicopters. The MCAI AD states: “This Emergency Airworthiness Directive is issued following some reports of deterioration and two reports of failure of Starflex star arm ends. These deteriorations generated high-amplitude vibrations in flight, compelling the pilot to carry out a precautionary landing, in each of these cases. The failure of the Starflex star arm end could make it impossible to control the helicopter. These deteriorations are due to the strong effect of temperature on the strength of the bush-to-Starflex star arm end attachment. Consequently, this EAD requires modification (MOD 0762C39) of the frequency adapters and the frequency adapter bushes, in order to improve the ventilation in the area on the star arm end, on helicopters operated in hot climatic conditions and/or tropical and damp atmosphere.”

You may obtain further information by examining the MCAI AD and service information in the AD docket.

Related Service Information

ECF has issued one Emergency Alert Service Bulletin, dated November 23, 2006, with four different numbers: No. 62.00.24 is for the civil Model SA-365N, AS-365N1, AS-365N2, and AS-365 N3; No. 62.14 is for the civil Model SA-366G1; No. 65.45 is for the Model SA-365C, C1, and C2; and No. 62.00.10 is for the non-FAA type certificated military Model 565 helicopters. The actions described in the MCAI AD are intended to correct the same unsafe condition as that identified in the service information.

FAA's Evaluation and Unsafe Condition Determination

These products have been approved by the aviation authority of France and are approved for operation in the United States. Pursuant to our bilateral agreement with France, EASA, their Technical Agent, has informed us of the unsafe condition described in the MCAI AD and the referenced service information. We are proposing this AD because we evaluated all the information provided by EASA and determined the unsafe condition exists and is likely to exist or develop on other products of these same type designs.

Differences Between This Proposed AD and the MCAI AD

This proposed AD differs from the MCAI AD as follows:

• We refer to flight hours as hours time-in-service.

• We refer to a check as an inspection if it is an action performed by maintenance personnel rather than a pilot.

• We omit the phrase “hot climatic conditions and/or in tropical and damp atmosphere” because it is unenforceable.

Costs of Compliance

We estimate that this proposed AD would affect about 37 helicopters of U.S. registry. We also estimate that it would take about 12 work-hours per helicopter to modify the frequency adapters and bushes. The average labor rate is $85 per work-hour. Required parts would cost about $960 per helicopter. Based on these figures, we estimate the cost of the proposed AD on U.S. operators to be $73,260.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2011-0454; Directorate Identifier 2009-SW-54-AD.

Comments Due Date

(a) We must receive comments by June 13, 2011.

Other Affected ADs

(b) None.

Applicability

(c) This AD applies to Model SA-365C, SA-365C1, SA-365C2, SA-365N, SA-365N1, AS-365N2, AS 365 N3, and SA-366G1 helicopters, certificated in any category.

Reason

(d) The mandatory continuing airworthiness information (MCAI) AD states that the manufacturer has received some reports of deterioration and two reports of failure of Starflex star arm ends. These deteriorations generated high-amplitude vibrations in flight requiring precautionary landings. They state these deteriorations are due to the strong effect of temperature on the strength of the bush-to-Starflex star arm end attachment. Consequently, the MCAI AD requires modification of the frequency adapters and the frequency adapter bushes to improve the ventilation in the area on the star arm end. The proposed AD is intended to require modifying the main rotor frequency adapters to reduce the temperature in the area, to prevent failure of the star arm end, severe vibration, and subsequent loss of control of the helicopter.

Actions and Compliance

(e) For a main rotor head frequency adapter, pre MOD 0762C39, within 110 hours time-in-service (TIS), remove the main rotor blades, modify the frequency adapters and bushes, and change the part number of the frequency adapter as shown in Figures 1 through 5 and by following the Accomplishment Instructions, paragraph 2.B.2., of Eurocopter Emergency Alert Service Bulletin (EASB) No. 62.00.24 for the Model SA-365N, N1, AS-365N2, and AS 365 N3; No. 62.14 for the Model SA-366G1; and No. 65.45 for the Model SA-365C, C1, and C2 helicopters; all dated November 23, 2006. This modification is MOD 0762C39.

Note: The one Eurocopter EASB contains four different EASB numbers, three (Nos. 62.00.24, 62.14, and 65.45) that apply to different civil Eurocopter model helicopters and one (No. 62.00.10) that only applies to non-FAA type-certificated military Model 565 helicopters and is not incorporated by reference.

(f) For each main rotor head frequency adapter modified per MOD 0762C39, within 10 hours TIS, unless accomplished previously, and thereafter at intervals not to exceed 10 hours TIS, inspect to determine whether the safety wire is in place on the trailing edge of the frequency adapter and whether the holes in the frequency adapters and the frequency adapter bushes, as shown in Figure 5 of the EASB for your model helicopter, are blocked.

(1) If the lockwire is missing from the trailing edge of the frequency adapter, before further flight, reposition the bush if it has turned and install more safety wire.

(2) If a hole is blocked, before further flight, unblock the hole.

(g) Before installing a frequency adapter or bush, modify the frequency adapter or bush and change the part number in accordance with paragraph (e) of this AD.

Differences Between This AD and the MCAI AD

(h) This AD differs from the MCAI AD as follows:

(1) We refer to flight hours as hours TIS.

(2) We refer to the check specified in the MCAI AD as an inspection because it is an action performed by maintenance personnel rather than a pilot.

(3) We omit the phrase “hot climatic conditions and/or in tropical and damp atmosphere” because it is unenforceable.

Other Information

(i) Alternative Methods of Compliance (AMOCs): The Manager, Safety Management Group, DOT/FAA Southwest Region, Gary Roach, ASW-111, Aviation Safety Engineer, Rotorcraft Directorate, Regulations and Guidance Group, 2601 Meacham Blvd., Fort Worth, Texas 76137, telephone (817) 222-5130, fax (817) 222-5961, has the authority to approve AMOCs for this AD, if requested, using the procedures found in 14 CFR 39.19.

Related Information

(j) MCAI AD No. 2006-0362-E, dated November 30, 2006, contains related information.

Joint Aircraft System/Component (JASC) Code

(k) The Joint Aircraft System/Component (JASC) Code is 5311: Main Rotor Head.

Issued in Fort Worth, Texas, on April 28, 2011.
Scott A. Horn,
Acting Manager, Rotorcraft Directorate, Aircraft Certification Service.

[FR Doc. 2011-11878 Filed 5-12-11; 8:45 am]

BILLING CODE 4910-13-P